DEPARTMENT OF JUSTICE

[OMB Number 1121-NEW]

Agency Information Collection Activities: Proposed New Information Collection Activity; Comment Request, Proposed Study Entitled “The National Baseline Study on Public Health, Wellness, & Safety”

AGENCY: National Institute of Justice, U.S. Department of Justice.

ACTION: 60-Day notice.

SUMMARY: The Department of Justice (DOJ), Office of Justice Programs, National Institute of Justice, is submitting the following information collection request to the Office of Management and Budget (OMB) for review and approval in accordance with the Paperwork Reduction Act of 1995.

DATES: The Department of Justice encourages public comment and will accept input until September 30, 2019.

FOR FURTHER INFORMATION CONTACT: If you have additional comments especially on the estimated public burden or associated response time, suggestions, or need a copy of the proposed information collection instrument with instructions or additional information, please contact Christine Crossland, National Institute of Justice, Office of Research, Evaluation, and Technology, 810 Seventh Street NW, Washington, DC 20531 (overnight 20001) or via email at NIJ_NationalBaselineStudy@usdoj.gov.

SUPPLEMENTARY INFORMATION: Written comments and suggestions from the public and affected agencies concerning the proposed collection of information are encouraged. Your comments should address one or more of the following four points:

—Evaluate whether the proposed collection of information is necessary for the proper performance of the functions of the National Institute of Justice, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: New survey.

2. The Title of the Form/Collection: “The National Baseline Study on Public Health, Wellness, & Safety”.

3. The agency form number, if any, and the applicable component of the Department sponsoring the collection: The applicable component within the U.S. Department of Justice is the National Institute of Justice.

4. Affected public who will be asked or required to respond, as well as a brief abstract: Title IX, Section 904(a) of the Violence Against Women and Department of Justice Reauthorization Act of 2005 (VAWA 2005), Public Law No. 109-162 (codified at 42 U.S.C. 3796gg-10 note), as amended by Section 907 of the Violence Against Women Reauthorization Act, Public Law No.113-4, mandates that the National Institute of Justice (NIJ), in consultation with the U.S. Department of Justice's Office on Violence Against Women (OVW), conduct a National Baseline Study (NBS) on violence against American Indian (AI) and Alaska Native (AN) women living in tribal communities. NIJ's NBS will examine violence against AI and AN women (including domestic violence, dating violence, sexual assault, and stalking) and identify factors that place AI and AN women at risk for victimization and propose recommendations to improve effectiveness of these responses. NIJ's NBS survey was designed to: (1) Provide an accurate reporting of violence against AI and AN women in tribal communities; (2) provide reliable, valid estimates of the scope of the problem; and (3) identify barriers to and possible solutions for dealing with these significant public safety issues.

The NBS will be conducted in geographically dispersed tribal communities across the U.S. (lower 48 and Alaska) using a NIJ-developed sampling strategy for which the primary aim is to provide an accurate national victimization rate of violence against adult AI and AN women specifically living in tribal communities. This information collection is a one-time information collection and is expected to take approximately thirty-six months from the time the first participant is enrolled until the last survey is administered.

The NBS is critical to quantifying the magnitude of violence and victimization in tribal communities and understanding service needs. At the end of this study, the NBS is expected to produce a deeper understanding of the issues faced by Native American women living in Indian Country and Alaska Native villages and help formulate public policies and prevention strategies to decrease the incidence of violent crimes against AI and AN women.

5. An estimate of the total number of respondents and the amount of time estimated for an average respondent to respond: The estimated range of burden for respondents is expected to be between 30 minutes to 1.5 hours for completion. Based on instrument testing results, we expect an average of 60 minutes per respondent. The following factors were considered when creating the burden estimate: The estimated total number of sites (40), households within sites (25), and respondents within households (1.5) in the sampling plan for a total of 1,500 expected respondents. NIJ estimates that nearly all of the approximately 1,500 respondents will fully complete the questionnaire.

6. An estimate of the total public burden (in hours) associated with the collection: The estimated public burden associated with this collection is 1,500 hours. It is estimated that each of the 1,500 respondents will take 1 hour to complete a questionnaire (1,500 respondents × 1 hour = 1,500 hours). We estimate a 36-month data collection period, with approximately half of the interviews completed each year, or an annualized burden of 500 hours.

If additional information is required contact: Melody Braswell, Department Clearance Officer, United States Department of Justice, Justice Management Division, Policy and Planning Staff, Two Constitution Square, 145 N Street NE, 3E.405A, Washington, DC 20530.

Dated: July 29, 2019.
Melody Braswell,
Department Clearance Officer for PRA, U.S. Department of Justice.

[FR Doc. 2019-16391 Filed 7-31-19; 8:45 am]

BILLING CODE 4410-23-P